DEPARTMENT OF THE INTERIOR

Bureau of Land Management

[LLNMP02000 L51100000.GE0000.LVEMG11CG200]

Notice of Intent To Prepare an Environmental Impact Statement for the Proposed Intercontinental Potash Corporation (ICP) (USA) Ochoa Mine Project, Lea County, NM

AGENCY: Bureau of Land Management, Interior.

ACTION: Notice of Intent.

SUMMARY: In compliance with the National Environmental Policy Act of 1969, as amended, (NEPA) and the Federal Land Policy and Management Act of 1976, as amended, the Bureau of Land Management (BLM) Carlsbad Field Office, Carlsbad, NM intends to prepare an Environmental Impact Statement (EIS) and by this notice is announcing the beginning of the scoping process to solicit public comments and identify issues.

DATES: This notice initiates the public scoping process for the EIS. Comments on issues may be submitted in writing until February 2, 2012. The date(s) and location(s) of any scoping meetings will be announced at least 15 days in advance through local media, newspapers and the BLM Web site at: http://www.blm.gov/nm/st/en/fo/Carlsbad_Field_Office.html. To be included in the Draft EIS, all comments must be received prior to the close of the scoping period or 15 days after the last public meeting, whichever is later. We will provide additional opportunities for public participation upon publication of the Draft EIS.

ADDRESSES: You may submit written comments on issues related to the ICP Ochoa Mine Project by any of the following methods:

• Email: David_Alderman@blm.gov

• Fax: (575) 885-9264

• Mail: Bureau of Land Management, Carlsbad Field Office, Attention: Ochoa Mine EIS Project Manager, 620 E. Greene St., Carlsbad, NM 88220.

Documents pertinent to this proposal may be examined at the Carlsbad Field Office.

FOR FURTHER INFORMATION CONTACT: For further information and/or to have your name added to our mailing list, contact David Alderman, Planning and Environmental Coordinator; telephone (575) 234-6232; address, Carlsbad Field Office 620 E. Greene St., Carlsbad, NM 88220; email David_Alderman@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours

SUPPLEMENTARY INFORMATION: Intercontinental Potash Corp. (USA) (ICP) holds BLM prospecting permits and has applied for preference right leases. ICP plans to develop an underground mine to extract polyhalite ore. These prospecting permits are located about 40 miles southeast of Carlsbad, New Mexico, and 20 miles west of Jal, New Mexico. The proposed project would occur on portions of the following townships and ranges:

New Mexico Prime Meridian

T. 22 S., R. 33 E.,

T. 22 S., R. 35 E.,

T. 23 S., R. 32 E.,

T. 23 S., R. 33 E.,

T. 23 S., R. 34 E.,

T. 23 S., R. 37 E.,

T. 24 S., R. 32 E.,

T. 24 S., R. 33 E.,

T. 24 S., R. 34 E.,

T. 24 S., R. 35 E.,

T. 24 S., R. 36 E.,

T. 24 S., R. 37 E.,

T. 25 S., R. 37 E.,

The areas described, including Federal, State, and nonpublic lands, total 276,480 acres. ICP holds 17 State leases, totaling 25,889 acres in addition to the 26 prospecting permits totaling 77,884 acres. ICP has submitted a proposed Mine Plan of Operations to the BLM for the Ochoa Mine Project, to produce the fertilizer sulfate of potash, K2SO4, from polyhalite ore. ICP's proposed Mine Plan of Operations includes an underground mine accessed by a shaft and a ramp, and processing facilities, including the ore process plant, dry stack tailings pile, evaporation ponds, water wells, pipelines, power lines, and a railroad load-out facility. The polyhalite will be continuously mined using the conventional room and pillar retreat method. In order to mine in proximity to active oil and gas wells, ICP has elected to follow the rules and regulations of a Category IV gassy mine. Sulfate of potash production involves two separate operations. The first operation is to mine raw polyhalite approximately 1,500 feet underground in the Rustler Formation. Once mined, the polyhalite is hoisted to the surface, crushed, calcined, leached, and granulated to produce sulfate of potash, the saleable product. The final product will be moved via truck to a load-out facility near Jal, where it will be loaded on trains and shipped.

The purpose of the public scoping process is to determine relevant issues that will influence the scope of the environmental analysis, including alternatives, and guide the process for developing the EIS. At present, the BLM has identified the following preliminary issues:

• Water availability;

• Impacts from subsidence;

• Impacts to oil and gas exploration and operation in the project area;

• Impacts to air quality; and

• Impacts to wildlife and range.

The BLM will utilize and coordinate the NEPA commenting process to satisfy the public involvement process for Section 106 of the National Historic Preservation Act (16 U.S.C. 470f) as provided for in 36 CFR 800.2(d)(3). Native American tribal consultations will be conducted in accordance with policy, and tribal concerns will be given due consideration, including impacts on Indian trust assets. Federal, State, and local agencies, along with other stakeholders that may be interested or affected by the BLM's decision on this project are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7

Jesse Juen,
Acting State Director.

[FR Doc. 2011-33664 Filed 12-29-11; 11:15 am]

BILLING CODE 4310-OX-P